DEPARTMENT OF LABOR

Employment and Training Administration

[TA-W-53,979]

Gorecki Manufacturing, Inc., Milaca, MN; Notice of Termination of Investigation

Pursuant to section 221 of the Trade Act of 1974, as amended, an investigation was initiated on January 12, 2004 in response to a petition filed on behalf of workers of Gorecki Manufacturing, Inc., Milaca, Minnesota.

The petitioning group of workers is covered by an active certification issued on March 10, 2003 and which remains in effect (TA-W-50,521). Consequently, further investigation in this case would serve no purpose, and the investigation has been terminated.

Signed at Washington, DC this 21st day of January, 2004.
Elliott S. Kushner,
Certifying Officer, Division of Trade Adjustment Assistance.

[FR Doc. 04-2609 Filed 2-5-04; 8:45 am]

BILLING CODE 4510-30-P